DEPARTMENT OF LABOR

Employment and Training Administration

Employment and Training Administration Program Year (PY) 2010 Workforce Investment Act (WIA) Allotments; PY 2010 Wagner-Peyser Act Final Allotments and PY 2010 Workforce Information Grants

AGENCY: Employment and Training Administration, Labor.

ACTION: Notice.

SUMMARY: This Notice announces allotments for PY 2010 for WIA Title I Youth, Adults and Dislocated Worker Activities programs; final allotments for Employment Service (ES) activities under the Wagner-Peyser Act for PY 2010 and Workforce Information Grants allotments for PY 2010. Allotments for the Work Opportunity Tax Credits will be announced separately.

The WIA allotments for States and the State final allotments for the Wagner-Peyser Act are based on formulas defined in their respective statutes. The WIA allotments for the outlying areas are based on a formula determined by the Secretary. As required by WIA section 182(d), on February 17, 2000, a Notice of the discretionary formula for allocating PY 2000 funds for the outlying areas (American Samoa, Guam, Marshall Islands, Micronesia, Northern Marianas, Palau, and the Virgin Islands) was published in the Federal Register at 65 FR 8236 (February 17, 2000). The rationale for the formula and methodology was fully explained in the February 17, 2000, Federal Register Notice. The formula for PY 2010 is the same as used for PY 2000 and is described in the section on Youth Activities program allotments. Comments are invited on the formula used to allot funds to the outlying areas.

DATES: Comments on the formula used to allot funds to the outlying areas must be received by April 30, 2010.

ADDRESSES: Submit written comments to the Employment and Training Administration, Office of Financial and Administrative Management, 200 Constitution Ave., NW., Room N-4702, Washington, DC 20210, Attention: Mr. Kenneth Leung, (202) 693-3471 (phone), (202) 693-2859 (fax), e-mail: Leung.Kenneth@dol.gov.

FOR FURTHER INFORMATION CONTACT: WIA Youth Activities allotments—Evan Rosenberg at (202) 693-3593 or LaSharn Youngblood at (202) 693-3606; WIA Adult and Dislocated Worker Activities and ES final allotments—Mike Qualter at (202) 693-3014; Workforce Information Grant allotments—Anthony Dais at (202) 693-2784.

SUPPLEMENTARY INFORMATION: The Department of Labor (DOL or Department) is announcing WIA allotments for PY 2010 for Youth Activities, Adults and Dislocated Worker Activities, and Wagner-Peyser Act PY 2010 final allotments. This notice provides information on the amount of funds available during PY 2010 to States with an approved WIA Title I and Wagner-Peyser Act Strategic Plan for PY 2010, and information regarding allotments to the outlying areas.

The allotments are based on the funds appropriated in the Consolidated Appropriations Act, 2010, Public Law 111-117, December 16, 2009. Included below are tables listing the PY 2010 allotments for programs under WIA Title I Youth Activities (Table I), Adult and Dislocated Workers Employment and Training Activities (Tables II and III, respectively), and the PY 2010 Wagner-Peyser Act final allotments (Table IV). Also attached is the PY 2010 Workforce Information Grant table (Table V).

Youth Activities Allotments. PY 2010 Youth Activities funds under WIA total $924,069,000. Table I includes a breakdown of the Youth Activities program allotments for PY 2010 and provides a comparison of these allotments to PY 2009 Youth Activities allotments for all States, outlying areas, Puerto Rico and the District of Columbia. Before determining the amount available for States, the total funding available for the outlying areas was reserved at 0.25 percent of the full amount appropriated for Youth Activities. On December 17, 2003, the President signed Public Law 108-188, the Compact of Free Association Amendments Act of 2003, which provides for consolidation of all funding, including WIA Title I, for the Marshall Islands and Micronesia into supplemental funding grants in the Department of Education (48 U.S.C. 1921 d (f)(1)(B)(iii)).

The Department of Education's appropriations now include funding for these supplemental grants; therefore, WIA Title I funds are no longer being provided for these two areas. The Compact, as amended by Section 309 of Division D of Public Law 111-117, the Consolidated Appropriations Act, 2010 (in the Department of Education's General Provisions), extends the availability of programs previously available to Palau through September 2010, including WIA Title I funding provisions.

The methodology for distributing funds to all outlying areas is not specified by WIA, but is at the Secretary's discretion. The methodology used is the same as used since PY 2000, i.e., funds are distributed among the remaining areas by formula based on relative share of number of unemployed, a 90 percent hold-harmless of the prior year share, a $75,000 minimum, and a 130 percent stop-gain of the prior year share. As in PY 2009, data for the relative share calculation in the PY 2010 formula were from 2000 Census data for all outlying areas, obtained from the Bureau of the Census (Bureau) and are based on 2000 Census surveys for those areas conducted either by the Bureau or the outlying areas under the guidance of the Bureau. The total amount available for Native Americans is 1.5 percent of the total amount for Youth Activities, in accordance with WIA section 127. After determining the amount for the outlying areas and Native Americans, the amount available for allotment to the States for PY 2010 is $907,897,792. This total amount was below the required $1 billion threshold specified in section 127(b)(1)(C)(iv)(IV); therefore, as in PY 2009, the WIA additional minimum provisions were not applied, and, instead, as required by WIA, the Job Training Partnership Act (JTPA) section 202(a)(3) (as amended by section 701 of the Job Training Reform Amendments of 1992) minimums of 90 percent hold-harmless of the prior year allotment percentage and 0.25 percent State minimum floor were used. Also, as required by WIA, the provision applying a 130 percent stop-gain of the prior year allotment percentage was used. The three formula factors required in WIA use the following data for the PY 2010 allotments:

(1) Number of unemployed for Areas of Substantial Unemployment (ASUs), averages for the 12-month period, July 2008 through June 2009;

(2) Number of excess unemployed individuals or the ASU excess (depending on which is higher), averages for the same 12-month period used for ASU unemployed data; and

(3) Number of economically disadvantaged youth (age 16 to 21, excluding college students and military), from special 2000 Census calculations.

As done beginning with the PY 2006 allotments, the ASU data for the PY 2010 allotments was identified by the States using special 2000 Census data based on households, obtained under Employment and Training Administration contract with the Census Bureau and provided to States by the Bureau of Labor Statistics.

Adult Employment and Training Activities Allotments. The total Adult Employment and Training Activities appropriation is $861,540,000. Table II shows the PY 2010 Adult Employment and Training Activities allotments and comparison to PY 2009 allotments by State. Like the Youth Activities program, the total available for the outlying areas was reserved at 0.25 percent of the full amount appropriated for Adult Activities. As discussed in the Youth Activities paragraph, beginning in PY 2005, WIA funding for the Marshall Islands and Micronesia is no longer provided; instead, funding is provided in the Department of Education's appropriation. The Adult Activities funds for grants to the remaining outlying areas, for which the distribution methodology is at the Secretary's discretion, were distributed among the areas by the same principles, formula and data as used for outlying areas for Youth Activities. After determining the amount for the outlying areas, the amount available for allotments to the States is $859,386,150. Like the Youth Activities program, the WIA minimum provisions were not applied for the PY 2010 allotments because the total amount available for the States was below the $960 million threshold required for Adult Activities in section 132(b)(1)(B)(iv)(IV). Instead, as required by WIA, the minimum allotments were calculated using the JTPA section 202(a)(3) (as amended by section 701 of the Job Training Reform Amendments of 1992) minimums of 90 percent hold-harmless of the prior year allotment percentage and 0.25 percent State minimum floor. Also, like the Youth Activities program, a provision applying a 130 percent stop-gain of the prior year allotment percentage was used. The three formula factors use the same data as used for the PY 2010 Youth Activities formula, except that data from the 2000 Census for the number of economically disadvantaged adults (age 22 to 72, excluding college students and military) were used.

Dislocated Worker Employment and Training Activities Allotments. The total Dislocated Worker appropriation is $1,413,000,000. The total appropriation includes formula funds for the States, while the National Reserve is used for National Emergency Grants, technical assistance and training, demonstration projects, and the outlying areas' Dislocated Worker allotments. Table III shows the PY 2010 Dislocated Worker Activities fund allotments by State. Like the Youth and Adult Activities programs, the total available for the outlying areas was reserved at 0.25 percent of the full amount appropriated for Dislocated Worker Activities. WIA funding for the Marshall Islands and Micronesia is no longer provided, as discussed above. The Dislocated Worker Activities funds for grants to outlying areas, for which the distribution methodology is at the Secretary's discretion, were distributed among the remaining areas by the same pro rata share as the areas received for the PY 2010 WIA Adult Activities program, the same methodology used in PY 2009. For the State distribution of formula funds, the three formula factors required in WIA use the following data for the PY 2010 allotments:

(1) Number of unemployed, averages for the 12-month period, October 2008 through September 2009;

(2) Number of excess unemployed, averages for the 12-month period, October 2008 through September 2009; and

(3) Number of long-term unemployed, averages for the 12-month period, October 2008 through September 2009.

Since the Dislocated Worker Activities formula has no floor amount or hold-harmless provisions, funding changes for States directly reflect the impact of changes in the number of unemployed.

Discontinuance of Additional Funding from WIA Section 173(e) for Adult/Dislocated Worker Activities for Eligible States. Section 173(e) of WIA facilitated the transition from the JTPA to the WIA Adult formula by providing funding from the National Reserve to States meeting certain criteria. However, the WIA formula has been in effect for a decade and the transition is complete. Therefore, in accordance with language in the Department of Labor Appropriations Act, 2010, no PY 2010 funds will be obligated to carry out Section 173(e) of the WIA.

Wagner-Peyser Act Employment Service Final Allotments. The appropriated level for PY 2010 for ES grants totals $703,576,000. After determining the funding for outlying areas, allotments to States were calculated using the formula set forth at section 6 of the Wagner-Peyser Act (29 U.S.C. 49e). PY 2010 formula allotments were based on each state's share of calendar year 2009 monthly averages of the civilian labor force (CLF) and unemployment. The Secretary of Labor is required to set aside up to three percent of the total available funds to assure that each State will have sufficient resources to maintain statewide employment service activities, as required under section 6(b)(4) of the Wagner-Peyser Act. In accordance with this provision, the three percent set-aside funds are included in the total allotment. The set-aside funds were distributed in two steps to States that have lost in relative share of resources from the previous year. In Step 1, States that have a CLF below one million and are also below the median CLF density were maintained at 100 percent of their relative share of prior year resources. All remaining set-aside funds were distributed on a pro-rata basis in Step 2 to all other States losing in relative share from the prior year but not meeting the size and density criteria for Step 1. The distribution of Employment Service funds (Table IV) includes $701,860,926 for States, as well as $1,715,074 for outlying areas.

Under section 7 of the Wagner-Peyser Act, 10 percent of the total sums allotted to each State shall be reserved for use by the Governor to provide performance incentives for ES offices, services for groups with special needs, and for the extra costs of exemplary models for delivering job services.

Workforce Information Grants Allotments. Total PY 2010 funding for Workforce Information Grants allotments to States is $32,000,000. The allotment figures for each State are listed in Table V. Funds are distributed by administrative formula, with a reserve of $176,800 for Guam and the Virgin Islands. The remaining funds are distributed to the States with 40 percent distributed equally to all States and 60 percent distributed based on each State's share of CLF for the 12 months ending September 2009.

Signed at Washington, DC on this 22nd day of March 2010.
Jane Oates,
Assistant Secretary, Employment and Training Administration.

Table I—U.S. Department of Labor; Employment and Training Administration; WIA Youth Activities State Allotments; Comparison of PY 2010 vs PY 2009
State | PY 2009 | PY 2010 | Difference | % Difference
Total | $924,069,000 | $924,069,000 | $0 | 0.00
Alabama | 9,059,768 | 11,777,698 | 2,717,930 | 30.00
Alaska | 3,061,576 | 2,755,418 | (306,158) | −10.00
Arizona | 13,869,309 | 15,982,731 | 2,113,422 | 15.24
Arkansas | 9,385,022 | 8,446,520 | (938,502) | −10.00
California | 145,161,310 | 136,875,948 | (8,285,362) | −5.71
Colorado | 9,236,777 | 11,132,070 | 1,895,293 | 20.52
Connecticut | 8,583,204 | 8,869,254 | 286,050 | 3.33
Delaware | 2,269,744 | 2,269,744 | 0 | 0.00
District of Columbia | 3,087,869 | 2,779,082 | (308,787) | −10.00
Florida | 33,348,363 | 43,352,872 | 10,004,509 | 30.00
Georgia | 24,394,229 | 28,251,785 | 3,857,556 | 15.81
Hawaii | 2,269,744 | 2,690,193 | 420,449 | 18.52
Idaho | 2,269,744 | 2,950,667 | 680,923 | 30.00
Illinois | 48,384,035 | 43,545,632 | (4,838,403) | −10.00
Indiana | 18,417,265 | 19,697,136 | 1,279,871 | 6.95
Iowa | 4,023,109 | 4,750,212 | 727,103 | 18.07
Kansas | 5,539,524 | 5,930,458 | 390,934 | 7.06
Kentucky | 13,775,333 | 14,303,105 | 527,772 | 3.83
Louisiana | 15,566,262 | 14,009,636 | (1,556,626) | −10.00
Maine | 3,339,802 | 3,476,520 | 136,718 | 4.09
Maryland | 9,011,703 | 11,311,383 | 2,299,680 | 25.52
Massachusetts | 19,319,917 | 17,387,925 | (1,931,992) | −10.00
Michigan | 57,520,566 | 51,768,509 | (5,752,057) | −10.00
Minnesota | 13,837,056 | 14,264,509 | 427,453 | 3.09
Mississippi | 14,535,436 | 13,081,892 | (1,453,544) | −10.00
Missouri | 19,757,091 | 17,781,382 | (1,975,709) | −10.00
Montana | 2,269,744 | 2,344,418 | 74,674 | 3.29
Nebraska | 2,290,428 | 2,518,508 | 228,080 | 9.96
Nevada | 5,888,382 | 7,654,897 | 1,766,515 | 30.00
New Hampshire | 2,269,744 | 2,269,744 | 0 | 0.00
New Jersey | 16,205,512 | 20,938,294 | 4,732,782 | 29.20
New Mexico | 4,850,334 | 4,365,301 | (485,033) | −10.00
New York | 55,635,768 | 51,835,670 | (3,800,098) | −6.83
North Carolina | 19,500,888 | 25,351,154 | 5,850,266 | 30.00
North Dakota | 2,269,744 | 2,269,744 | 0 | 0.00
Ohio | 43,682,103 | 39,313,893 | (4,368,210) | −10.00
Oklahoma | 6,773,423 | 6,970,582 | 197,159 | 2.91
Oregon | 11,720,493 | 13,707,810 | 1,987,317 | 16.96
Pennsylvania | 31,617,301 | 31,871,328 | 254,027 | 0.80
Puerto Rico | 33,024,567 | 29,722,110 | (3,302,457) | −10.00
Rhode Island | 4,364,513 | 4,531,698 | 167,185 | 3.83
South Carolina | 19,222,108 | 17,299,897 | (1,922,211) | −10.00
South Dakota | 2,269,744 | 2,269,744 | 0 | 0.00
Tennessee | 19,522,993 | 18,716,506 | (806,487) | −4.13
Texas | 63,783,091 | 57,404,782 | (6,378,309) | −10.00
Utah | 3,941,414 | 3,547,273 | (394,141) | −10.00
Vermont | 2,269,744 | 2,269,744 | 0 | 0.00
Virginia | 10,098,341 | 13,127,843 | 3,029,502 | 30.00
Washington | 18,236,698 | 17,997,280 | (239,418) | −1.31
West Virginia | 4,156,224 | 3,924,261 | (231,963) | −5.58
Wisconsin | 10,740,989 | 13,963,286 | 3,222,297 | 30.00
Wyoming | 2,269,744 | 2,269,744 | 0 | 0.00
State Total | 907,897,792 | 907,897,792 | 0 | 0.00
American Samoa | 131,813 | 131,813 | 0 | 0.00
Guam | 1,072,924 | 1,072,924 | 0 | 0.00
Northern Marianas | 397,035 | 397,035 | 0 | 0.00
Palau | 75,000 | 75,000 | 0 | 0.00
Virgin Islands | 633,401 | 633,401 | 0 | 0.00
Outlying Areas Total | 2,310,173 | 2,310,173 | 0 | 0.00
Native Americans | 13,861,035 | 13,861,035 | 0 | 0.00

Table II—U.S. Department of Labor; Employment and Training Administration; WIA Adult Activities State Allotments; Comparison of PY 2010 vs PY 2009
State | PY 2009 | PY 2010 | Difference | % Difference
Total | $861,540,000 | $861,540,000 | $0 | 0.00
Alabama | 8,881,745 | 11,546,269 | 2,664,524 | 30.00
Alaska | 2,923,068 | 2,630,761 | (292,307) | −10.00
Arizona | 13,256,136 | 15,227,363 | 1,971,227 | 14.87
Arkansas | 8,829,357 | 7,946,421 | (882,936) | −10.00
California | 139,444,084 | 131,676,574 | (7,767,510) | −5.57
Colorado | 8,341,034 | 10,028,610 | 1,687,576 | 20.23
Connecticut | 7,632,284 | 7,899,746 | 267,462 | 3.50
Delaware | 2,148,465 | 2,148,465 | 0 | 0.00
District of Columbia | 2,685,463 | 2,416,917 | (268,546) | −10.00
Florida | 33,848,953 | 44,003,639 | 10,154,686 | 30.00
Georgia | 22,833,446 | 26,468,737 | 3,635,291 | 15.92
Hawaii | 2,148,465 | 2,786,714 | 638,249 | 29.71
Idaho | 2,148,465 | 2,793,005 | 644,540 | 30.00
Illinois | 44,888,169 | 40,399,352 | (4,488,817) | −10.00
Indiana | 16,349,181 | 17,396,927 | 1,047,746 | 6.41
Iowa | 2,706,167 | 3,329,069 | 622,902 | 23.02
Kansas | 4,703,065 | 4,907,309 | 204,244 | 4.34
Kentucky | 14,258,220 | 14,765,556 | 507,336 | 3.56
Louisiana | 15,147,944 | 13,633,150 | (1,514,794) | −10.00
Maine | 3,146,947 | 3,276,134 | 129,187 | 4.11
Maryland | 8,545,357 | 10,691,615 | 2,146,258 | 25.12
Massachusetts | 17,533,066 | 15,779,759 | (1,753,307) | −10.00
Michigan | 53,707,324 | 48,336,592 | (5,370,732) | −10.00
Minnesota | 12,099,930 | 12,498,015 | 398,085 | 3.29
Mississippi | 13,528,436 | 12,175,592 | (1,352,844) | −10.00
Missouri | 18,243,831 | 16,419,448 | (1,824,383) | −10.00
Montana | 2,148,465 | 2,281,343 | 132,878 | 6.18
Nebraska | 2,148,465 | 2,148,465 | 0 | 0.00
Nevada | 5,904,037 | 7,675,248 | 1,771,211 | 30.00
New Hampshire | 2,148,465 | 2,148,465 | 0 | 0.00
New Jersey | 16,336,946 | 20,803,661 | 4,466,715 | 27.34
New Mexico | 4,629,318 | 4,166,386 | (462,932) | −10.00
New York | 54,853,314 | 51,297,403 | (3,555,911) | −6.48
North Carolina | 17,991,679 | 23,389,183 | 5,397,504 | 30.00
North Dakota | 2,148,465 | 2,148,465 | 0 | 0.00
Ohio | 40,703,627 | 36,633,264 | (4,070,363) | −10.00
Oklahoma | 6,353,066 | 6,516,603 | 163,537 | 2.57
Oregon | 11,013,161 | 12,848,682 | 1,835,521 | 16.67
Pennsylvania | 28,797,617 | 29,034,229 | 236,612 | 0.82
Puerto Rico | 35,033,711 | 31,530,340 | (3,503,371) | −10.00
Rhode Island | 3,666,405 | 3,919,536 | 253,131 | 6.90
South Carolina | 18,131,016 | 16,317,914 | (1,813,102) | −10.00
South Dakota | 2,148,465 | 2,148,465 | 0 | 0.00
Tennessee | 18,859,653 | 18,105,616 | (754,037) | −4.00
Texas | 59,776,554 | 53,798,899 | (5,977,655) | −10.00
Utah | 3,129,661 | 2,816,695 | (312,966) | −10.00
Vermont | 2,148,465 | 2,148,465 | 0 | 0.00
Virginia | 9,098,617 | 11,828,202 | 2,729,585 | 30.00
Washington | 16,872,727 | 16,563,114 | (309,613) | −1.83
West Virginia | 4,194,765 | 4,058,158 | (136,607) | −3.26
Wisconsin | 9,022,419 | 11,729,145 | 2,706,726 | 30.00
Wyoming | 2,148,465 | 2,148,465 | 0 | 0.00
State Total | 859,386,150 | 859,386,150 | 0 | 0.00
American Samoa | 122,595 | 122,595 | 0 | 0.00
Guam | 997,885 | 997,885 | 0 | 0.00
Northern Marianas | 369,268 | 369,268 | 0 | 0.00
Palau | 75,000 | 75,000 | 0 | 0.00
Virgin Islands | 589,102 | 589,102 | 0 | 0.00
Outlying Areas Total | 2,153,850 | 2,153,850 | 0 | 0.00

Table III—U.S. Department of Labor; Employment and Training Administration; WIA Dislocated Worker Activities State Allotments; Comparison of PY 2010 vs PY 2009
State | PY 2009 | PY 2010 | Difference | % Difference
Total | $1,466,891,000 | $1,413,000,000 | ($53,891,000) | −3.67
Alabama | 12,621,558 | 17,669,335 | 5,047,777 | 39.99
Alaska | 3,392,665 | 2,187,095 | (1,205,570) | −35.53
Arizona | 16,648,405 | 22,788,184 | 6,139,779 | 36.88
Arkansas | 7,192,470 | 6,867,051 | (325,419) | −4.52
California | 212,284,647 | 192,413,016 | (19,871,631) | −9.36
Colorado | 13,837,694 | 14,509,305 | 671,611 | 4.85
Connecticut | 14,238,672 | 11,850,579 | (2,388,093) | −16.77
Delaware | 1,950,897 | 2,778,921 | 828,024 | 42.44
District of Columbia | 3,628,361 | 2,990,511 | (637,850) | −17.58
Florida | 77,059,075 | 83,019,633 | 5,960,558 | 7.74
Georgia | 41,902,519 | 40,912,792 | (989,727) | −2.36
Hawaii | 2,067,480 | 3,268,124 | 1,200,644 | 58.07
Idaho | 2,709,982 | 4,536,856 | 1,826,874 | 67.41
Illinois | 65,561,923 | 54,673,396 | (10,888,527) | −16.61
Indiana | 25,076,767 | 27,257,656 | 2,180,889 | 8.70
Iowa | 4,999,095 | 5,888,367 | 889,272 | 17.79
Kansas | 4,978,239 | 6,855,442 | 1,877,203 | 37.71
Kentucky | 17,901,696 | 18,089,024 | 187,328 | 1.05
Louisiana | 8,857,065 | 9,812,674 | 955,609 | 10.79
Maine | 4,373,817 | 4,578,544 | 204,727 | 4.68
Maryland | 10,767,103 | 15,543,289 | 4,776,186 | 44.36
Massachusetts | 20,303,163 | 22,706,846 | 2,403,683 | 11.84
Michigan | 75,050,239 | 64,544,036 | (10,506,203) | −14.00
Minnesota | 20,054,286 | 18,020,939 | (2,033,347) | −10.14
Mississippi | 13,594,096 | 9,867,047 | (3,727,049) | −27.42
Missouri | 24,710,779 | 22,223,344 | (2,487,435) | −10.07
Montana | 1,679,893 | 2,174,950 | 495,057 | 29.47
Nebraska | 2,478,758 | 2,428,300 | (50,458) | −2.04
Nevada | 13,691,153 | 14,124,712 | 433,559 | 3.17
New Hampshire | 2,393,494 | 3,181,956 | 788,462 | 32.94
New Jersey | 31,288,216 | 33,365,324 | 2,077,108 | 6.64
New Mexico | 2,832,500 | 4,093,214 | 1,260,714 | 44.51
New York | 63,490,356 | 65,534,311 | 2,043,955 | 3.22
North Carolina | 42,493,181 | 44,039,515 | 1,546,334 | 3.64
North Dakota | 876,713 | 690,086 | (186,627) | −21.29
Ohio | 55,974,110 | 51,610,221 | (4,363,889) | −7.80
Oklahoma | 5,762,276 | 6,905,534 | 1,143,258 | 19.84
Oregon | 16,418,257 | 20,167,658 | 3,749,401 | 22.84
Pennsylvania | 40,639,918 | 39,561,993 | (1,077,925) | −2.65
Puerto Rico | 28,244,122 | 17,054,847 | (11,189,275) | −39.62
Rhode Island | 7,601,362 | 6,227,600 | (1,373,762) | −18.07
South Carolina | 23,633,802 | 23,089,893 | (543,909) | −2.30
South Dakota | 912,475 | 1,000,388 | 87,913 | 9.63
Tennessee | 27,141,982 | 26,930,077 | (211,905) | −0.78
Texas | 51,436,825 | 61,378,563 | 9,941,738 | 19.33
Utah | 3,383,375 | 4,625,970 | 1,242,595 | 36.73
Vermont | 1,673,255 | 1,787,950 | 114,695 | 6.85
Virginia | 13,503,287 | 18,472,220 | 4,968,933 | 36.80
Washington | 21,181,897 | 24,271,171 | 3,089,274 | 14.58
West Virginia | 3,424,387 | 4,551,211 | 1,126,824 | 32.91
Wisconsin | 15,363,236 | 19,934,322 | 4,571,086 | 29.75
Wyoming | 558,477 | 786,008 | 227,531 | 40.74
State Total | 1,183,840,000 | 1,183,840,000 | 0 | 0.00
American Samoa | 208,735 | 201,066 | (7,669) | −3.67
Guam | 1,699,037 | 1,636,618 | (62,419) | −3.67
Northern Marianas | 628,730 | 605,632 | (23,098) | −3.67
Palau | 127,698 | 123,006 | (4,692) | −3.67
Virgin Islands | 1,003,028 | 966,178 | (36,850) | −3.67
Outlying Areas Total | 3,667,228 | 3,532,500 | (134,728) | −3.67
National Reserve | 279,383,772 | 225,627,500 | (53,756,272) | −19.24

Table IV—U. S. Department of Labor; Employment and Training Administration; Employment Service (Wagner-Peyser); PY 2010 Final vs PY 2009 Final Allotments
State | Final PY 2009 | Final PY 2010 | Difference | % Difference
Total | $703,576,000 | $703,576,000 | $0 | 0.00
Alabama | 9,048,957 | 9,042,125 | (6,832) | −0.08
Alaska | 7,648,207 | 7,648,207 | 0 | 0.00
Arizona | 12,477,755 | 12,822,660 | 344,905 | 2.76
Arkansas | 5,880,640 | 5,773,513 | (107,127) | −1.82
California | 83,452,931 | 84,038,299 | 585,368 | 0.70
Colorado | 11,037,674 | 10,944,825 | (92,849) | −0.84
Connecticut | 7,905,625 | 7,843,690 | (61,935) | −0.78
Delaware | 1,965,210 | 1,965,210 | 0 | 0.00
District of Columbia | 2,536,120 | 2,479,777 | (56,343) | −2.22
Florida | 39,347,985 | 40,350,319 | 1,002,334 | 2.55
Georgia | 20,807,886 | 20,714,232 | (93,654) | −0.45
Hawaii | 2,534,022 | 2,525,177 | (8,845) | −0.35
Idaho | 6,372,318 | 6,372,318 | 0 | 0.00
Illinois | 29,435,140 | 29,258,315 | (176,825) | −0.60
Indiana | 13,961,618 | 13,903,821 | (57,797) | −0.41
Iowa | 6,620,728 | 6,548,144 | (72,584) | −1.10
Kansas | 6,106,309 | 6,048,497 | (57,812) | −0.95
Kentucky | 9,142,999 | 9,125,242 | (17,757) | −0.19
Louisiana | 9,223,752 | 9,018,836 | (204,916) | −2.22
Maine | 3,789,556 | 3,789,556 | 0 | 0.00
Maryland | 11,883,400 | 11,800,235 | (83,165) | −0.70
Massachusetts | 14,326,399 | 14,269,289 | (57,110) | −0.40
Michigan | 24,621,640 | 24,475,871 | (145,769) | −0.59
Minnesota | 12,250,556 | 12,164,816 | (85,740) | −0.70
Mississippi | 6,427,984 | 6,285,179 | (142,805) | −2.22
Missouri | 13,146,226 | 13,030,412 | (115,814) | −0.88
Montana | 5,207,490 | 5,207,490 | 0 | 0.00
Nebraska | 6,258,380 | 6,258,380 | 0 | 0.00
Nevada | 6,167,234 | 6,370,598 | 203,364 | 3.30
New Hampshire | 2,873,239 | 2,859,890 | (13,349) | −0.46
New Jersey | 18,943,556 | 18,931,877 | (11,679) | −0.06
New Mexico | 5,843,720 | 5,843,720 | 0 | 0.00
New York | 40,607,026 | 40,405,589 | (201,437) | −0.50
North Carolina | 19,706,162 | 20,093,605 | 387,443 | 1.97
North Dakota | 5,302,783 | 5,302,783 | 0 | 0.00
Ohio | 26,681,937 | 26,537,471 | (144,466) | −0.54
Oklahoma | 6,951,895 | 6,902,154 | (49,741) | −0.72
Oregon | 8,702,863 | 8,902,979 | 200,116 | 2.30
Pennsylvania | 26,826,020 | 26,651,245 | (174,775) | −0.65
Puerto Rico | 8,253,932 | 8,070,562 | (183,370) | −2.22
Rhode Island | 2,661,374 | 2,652,902 | (8,472) | −0.32
South Carolina | 9,957,757 | 9,953,286 | (4,471) | −0.04
South Dakota | 4,900,991 | 4,900,991 | 0 | 0.00
Tennessee | 13,173,347 | 13,154,566 | (18,781) | −0.14
Texas | 48,305,269 | 48,080,415 | (224,854) | −0.47
Utah | 7,638,164 | 7,468,473 | (169,691) | −2.22
Vermont | 2,295,903 | 2,295,903 | 0 | 0.00
Virginia | 15,659,584 | 15,795,653 | 136,069 | 0.87
Washington | 14,623,623 | 14,688,343 | 64,720 | 0.44
West Virginia | 5,609,667 | 5,609,667 | 0 | 0.00
Wisconsin | 12,954,947 | 12,881,393 | (73,554) | −0.57
Wyoming | 3,802,426 | 3,802,426 | 0 | 0.00
State Total | 701,860,926 | 701,860,926 | 0 | 0.00
Guam | 329,219 | 329,219 | 0 | 0.00
Virgin Islands | 1,385,855 | 1,385,855 | 0 | 0.00
Outlying Areas Total | 1,715,074 | 1,715,074 | 0 | 0.00

Table V—U.S. Department of Labor; Employment and Training Administration; Workforce Information Grants to States; PY 2010 vs PY 2009 Allotments
State | PY 2009 | PY 2010 | Difference | % Difference
Total | $32,000,000 | $32,000,000 | $0 | 0.00
Alabama | 513,199 | 505,992 | (7,207) | −1.40
Alaska | 288,558 | 288,781 | 223 | 0.08
Arizona | 626,020 | 631,779 | 5,759 | 0.92
Arkansas | 413,813 | 412,277 | (1,536) | −0.37
California | 2,507,217 | 2,515,778 | 8,561 | 0.34
Colorado | 583,382 | 577,959 | (5,423) | −0.93
Connecticut | 476,002 | 475,973 | (29) | −0.01
Delaware | 299,219 | 298,498 | (721) | −0.24
District of Columbia | 285,208 | 285,170 | (38) | −0.01
Florida | 1,388,142 | 1,377,429 | (10,713) | −0.77
Georgia | 842,605 | 832,325 | (10,280) | −1.22
Hawaii | 325,132 | 324,368 | (764) | −0.23
Idaho | 338,097 | 337,134 | (963) | −0.28
Illinois | 1,070,081 | 1,056,837 | (13,244) | −1.24
Indiana | 642,235 | 637,859 | (4,376) | −0.68
Iowa | 451,190 | 450,390 | (800) | −0.18
Kansas | 427,610 | 430,687 | 3,077 | 0.72
Kentucky | 495,574 | 498,273 | 2,699 | 0.54
Louisiana | 494,844 | 499,711 | 4,867 | 0.98
Maine | 332,053 | 331,210 | (843) | −0.25
Maryland | 612,613 | 608,631 | (3,982) | −0.65
Massachusetts | 662,375 | 665,387 | 3,012 | 0.45
Michigan | 855,176 | 840,933 | (14,243) | −1.67
Minnesota | 606,203 | 606,706 | 503 | 0.08
Mississippi | 407,221 | 404,978 | (2,243) | −0.55
Missouri | 615,454 | 613,786 | (1,668) | −0.27
Montana | 306,660 | 306,340 | (320) | −0.10
Nebraska | 366,425 | 365,970 | (455) | −0.12
Nevada | 414,616 | 416,502 | 1,886 | 0.45
New Hampshire | 335,737 | 335,493 | (244) | −0.07
New Jersey | 796,139 | 800,638 | 4,499 | 0.57
New Mexico | 361,891 | 362,201 | 310 | 0.09
New York | 1,420,420 | 1,439,096 | 18,676 | 1.31
North Carolina | 805,049 | 803,030 | (2,019) | −0.25
North Dakota | 290,398 | 289,915 | (483) | −0.17
Ohio | 982,778 | 974,547 | (8,231) | −0.84
Oklahoma | 459,625 | 461,686 | 2,061 | 0.45
Oregon | 484,917 | 487,891 | 2,974 | 0.61
Pennsylvania | 1,027,599 | 1,032,188 | 4,589 | 0.45
Puerto Rico | 412,752 | 408,794 | (3,958) | −0.96
Rhode Island | 315,475 | 314,349 | (1,126) | −0.36
South Carolina | 508,829 | 512,460 | 3,631 | 0.71
South Dakota | 299,586 | 299,507 | (79) | −0.03
Tennessee | 621,026 | 616,563 | (4,463) | −0.72
Texas | 1,680,566 | 1,704,900 | 24,334 | 1.45
Utah | 415,279 | 414,068 | (1,211) | −0.29
Vermont | 288,282 | 288,734 | 452 | 0.16
Virginia | 748,577 | 753,436 | 4,859 | 0.65
Washington | 671,927 | 679,171 | 7,244 | 1.08
West Virginia | 344,271 | 342,209 | (2,062) | −0.60
Wisconsin | 624,534 | 624,061 | (473) | −0.08
Wyoming | 280,619 | 280,600 | (19) | −0.01
State Total | 31,823,200 | 31,823,200 | 0 | 0.00
Guam | 92,899 | 92,899 | 0 | 0.00
Virgin Islands | 83,901 | 83,901 | 0 | 0.00
Outlying Areas Total | 176,800 | 176,800 | 0 | 0.00

[FR Doc. 2010-6696 Filed 3-30-10; 8:45 am]

BILLING CODE 4510-FN-P